DEPARTMENT OF AGRICULTURE

Forest Service

Alpine County Resource Advisory Committee (RAC)

AGENCY: Forest Service, USDA.

ACTION: Notice of meeting.

SUMMARY: The Alpine County Resource Advisory Committee (RAC) will hold its first meeting.

DATES: The meeting will be held on April 23, 2009, and will begin at 6 p.m. The meeting will be held in Alpine County at Turtle Rock Park Community Center, 17300 State Route 89 Markleeville, CA 96120.

FOR FURTHER INFORMATION CONTACT: Marnie Bonesteel, RAC Coordinator, USDA, Humboldt-Toiyabe National Forest, Carson Ranger District, 1536 S. Carson Street, Carson City, NV 89701 (775) 884-8140; e-mail mbonesteel@fs.fed.us.

SUPPLEMENTARY INFORMATION: Agenda items to be covered include: (1) Introductions of committee members and Forest Service personnel. (2) Review legislation and re-authorization of the Secure Rule Schools and Community Self-Determination Act. (3) Review vacancies on the committee and process for recruiting and filling vacancies. (4) Receive materials explaining the process for considering and recommending Title II projects. (5) Public Comment. The meeting is open to the public. Public input opportunity will be provided and individuals will have the opportunity to address the Committee at that time.

Dated: March 26, 2009.
Genny E. Wilson,
Designated Federal Officer.

[FR Doc. E9-8124 Filed 4-10-09; 8:45 am]

BILLING CODE 3410-11-M